ENVIRONMENTAL PROTECTION AGENCY

[EPA-HQ-OAR-2020-0629; FRL-8964-01-OMS]

Information Collection Request Submitted to OMB for Review and Approval; Comment Request; NSPS for Primary and Secondary Emissions From Basic Oxygen Furnaces (Renewal)

AGENCY: Environmental Protection Agency (EPA).

ACTION: Notice.

SUMMARY: The Environmental Protection Agency (EPA) has submitted an information collection request (ICR), NSPS for Primary and Secondary Emissions from Basic Oxygen Furnaces (EPA ICR Number 1069.13, OMB Control Number 2060-0029), to the Office of Management and Budget (OMB) for review and approval in accordance with the Paperwork Reduction Act. This is a proposed extension of the ICR, which is currently approved through December 31, 2021. Public comments were previously requested, via the Federal Register, on February 8, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before October 8, 2021.

ADDRESSES: Submit your comments, referencing Docket ID Number EPA-HQ-OAR-2020-0629 online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: This rule applies to Basic Oxygen Process Furnaces (BOPFs) in iron and steel plants commencing construction, modification or reconstruction after June 11, 1973 and top-blown BOPFs, hot metal transfer stations or skimming stations for which construction, reconstruction, or modification commenced after January 20, 1983. Respondents are required to submit initial notifications, conduct performance tests and report test results for the primary emission control devices, and submit periodic reports. Sources also must develop and implement a startup, shutdown, and malfunction plan (SSMP) and submit semiannual reports of any event where the procedures in the plan were not followed. This information is being collected to assure compliance with 40 CFR part 60, subparts N and Na.

Form Numbers: None.

Respondents/affected entities: Basic oxygen process furnaces (BOPF).

Respondent's obligation to respond: Mandatory (40 CFR part 60, subparts N and Na).

Estimated number of respondents: 13 (total).

Frequency of response: Semiannually.

Total estimated burden: 4,560 hours (per year). Burden is defined at 5 CFR 1320.3(b).

Total estimated cost: $562,000 (per year), which includes $21,600 in annualized capital/startup and/or operation & maintenance costs.

Changes in the Estimates: There is decrease in burden from the most-recently approved ICR. This decrease is due to a decrease in the number of sources. The estimate of 13 respondents in this ICR reflects a decrease in the number of respondents from the prior ICR due to the closing or merger of existing facilities, as confirmed through Agency review of iron and steel facilities in related rulemaking activities. Since there are no changes in the regulatory requirements and there is no significant industry growth, there are also no changes in the capital/startup or operation and maintenance (O&M) costs.

Courtney Kerwin,
Director, Regulatory Support Division.

[FR Doc. 2021-19432 Filed 9-7-21; 8:45 am]

BILLING CODE 6560-50-P